GENERAL SERVICES ADMINISTRATION

Interagency Committee for Medical Records (ICMR); Printed Construction Cancellation of Medical Standard Form

AGENCY: General Services Administration.

ACTION: Notice.

SUMMARY: Because of low usage only the cut sheet version of the following Standard Form is cancelled: SF 519A, Medical Record—Radiologic Consultation Request/Report (NSN 7540-00-634-4161).

The 3-part set of the form (NSN 7540-00-634-4162) is still current and available from the Federal Supply Service.

DATES: Effective January 22, 2001.

FOR FURTHER INFORMATION CONTACT: Ms. Barbara Williams, General Services Administration, (202) 501-0581.

Dated: January 5, 2001.
Barbara M. Williams,
Deputy Standard and Optional Forms Management Officer.

[FR Doc. 01-1832 Filed 1-19-01; 8:45 am]

BILLING CODE 6820-34-M